DEPARTMENT OF HOMELAND SECURITY

Coast Guard

33 CFR Part 100

[Docket No. USCG-2016-0745]

Special Local Regulation; Back River, Poquoson, VA

AGENCY: Coast Guard, DHS.

ACTION: Notice of enforcement of regulation.

SUMMARY: The Coast Guard will enforce a special local regulation to keep vessels from entering the Poquoson Seafood Festival Workboat Races route near the vicinity of Messick Point, in Back River, Poquoson, VA on October 23, 2016. This action is necessary to ensure safety of life on navigable waters during this event. Our regulation for Recurring Marine Events within the Fifth Coast Guard District identifies the regulated area for this event. During the enforcement period, no person or vessel may enter, transit through, anchor in, or remain within the regulated area without approval from the Captain of the Port or a designated representative.

DATES: The regulations in 33 CFR 100.501 will be enforced for the location listed in item (c.)8 of the Table to § 100.501, from 1 p.m. through 4 p.m. on October 23, 2016.

FOR FURTHER INFORMATION CONTACT: If you have questions about this notice of enforcement, call or email ENS Chandra Saunders, U.S. Coast Guard Sector Hampton Roads (WWM); telephone 757-668-5582, email Chandra.M.Saunders@uscg.mil.

SUPPLEMENTARY INFORMATION: The Coast Guard will enforce the special local regulation in the table to 33 CFR 100.501, item (c.)8, from 1 p.m. until 4 p.m. on October 23, 2016, for the 2016 Poquoson Seafood Festival Workboat Races on Back River. This action is being taken to provide for the safety of life on navigable waterways during this event. Our regulation for Recurring Marine Events within the Fifth Coast Guard District, § 100.501, specifies the location of the special regulated area bounded on the north by a line drawn along latitude 37°06′30″ N., bounded on the south by a line drawn along latitude 37°06′15″ N., bounded on the east by a line drawn along longitude 076°18′52″ W. and bounded on the west by a line drawn along longitude 076°19′30″ W. located in the vicinity of Messick Point, in Back River, Poquoson, VA. As specified in § 100.501(c), during the enforcement period, no vessel may not enter, remain in, or transit through the special local regulation without approval from the Captain of the Hampton Roads (COTP) or a COTP designated representative. The Coast Guard may be assisted by other Federal, state or local law enforcement agencies in enforcing this regulation.

This notice of enforcement is issued under authority of 33 CFR 100.501 and 5 U.S.C. 552(a). In addition to this notice of enforcement in the Federal Register, the Coast Guard plans to provide notification of this enforcement period via the Local Notice to Mariners and marine information broadcasts.

Dated: October 14, 2016.
Richard J. Wester,
Captain, U.S. Coast Guard, Captain of the Port, Hampton Roads, VA.

[FR Doc. 2016-25679 Filed 10-21-16; 8:45 am]

BILLING CODE 9110-04-P